U.S.-CHINA ECONOMIC AND SECURITY REVIEW COMMISSION

Notice of Open Public Event

AGENCY: U.S.-China Economic and Security Review Commission.

ACTION: Notice of open public event.

SUMMARY: Notice is hereby given of the following open public event of the U.S.-China Economic and Security Review Commission. The Commission is mandated by Congress to monitor, investigate, and report to Congress annually on “the national security implications of the bilateral trade and economic relationship between the United States and the People's Republic of China.” Pursuant to this mandate, the Commission will hold a public release of its 2024 Annual Report to Congress in Washington, DC on November 19, 2024.

DATES: The release is scheduled for Tuesday, November 19, 2024 at 10:30 a.m.

ADDRESSES: This release will be held in-person at or near the U.S. Capitol and adjacent Congressional office buildings (specific building and room number to be announced) and online via live webcast on the Commission's website at www.uscc.gov. Please check the Commission's website for an announcement on the specific event location once determined. Instructions on how to view the webcast and submit questions or participate in the question and answer session will also be posted at USCC.gov. Reservations are not required to attend.

FOR FURTHER INFORMATION CONTACT: Any member of the public seeking further information concerning the event should contact Jameson Cunningham, 444 North Capitol Street NW, Suite 602, Washington, DC 20001; telephone: 202-624-1496, or via email at jcunningham@uscc.gov. Reservations are not required to attend.

ADA Accessibility: For questions about the accessibility of the event or to request an accommodation, please contact Jameson Cunningham at 202-624-1496, or via email at jcunningham@uscc.gov. Requests for an accommodation should be made as soon as possible, and at least five business days prior to the event.

SUPPLEMENTARY INFORMATION:

Topics to Be Discussed: The Commission's 2024 Annual Report to Congress addresses key findings and recommendations for Congressional action based upon the Commission's hearings, research, and review of the areas designated by Congress in its mandate, including focused work this year on: a review of economics, trade, security, and foreign affairs developments in China and in the U.S.-China relationship in 2024; China's progress in emerging technologies at the forefront of U.S.-China competition; the risks to consumer product safety posed by Chinese imports; China's counter-intervention capabilities in the Indo-Pacific region; U.S. strategies to address China's nonmarket practices and other aspects of intersecting economic and national security challenges associated with China; the Chinese Communist Party's efforts to prepare Chinese society for a crisis or conflict; and changing relations between China and the Middle East, Taiwan, and Hong Kong.

Authority: Congress created the U.S.-China Economic and Security Review Commission in 2000 in the National Defense Authorization Act (Pub. L. 106-398), as amended by division P of the Consolidated Appropriations Resolution, 2003 (Pub. L. 108-7), as amended by Pub. L. 109-108 (November 22, 2005), as amended by Pub. L. 113-291 (December 19, 2014).

Dated: October 28, 2024.
Christopher P. Fioravante,
Deputy Executive Director, U.S.-China Economic and Security Review Commission.

[FR Doc. 2024-25579 Filed 11-1-24; 8:45 am]

BILLING CODE 1137-00-P